DEPARTMENT OF COMMERCE

National Oceanic and Atmospheric Administration

[RTID 0648-XA512]

Scientific Advisory Subcommittee to the General Advisory Committee and General Advisory Committee to the U.S. Section to the Inter-American Tropical Tuna Commission; Meeting Announcements

AGENCY: National Marine Fisheries Service (NMFS), National Oceanic and Atmospheric Administration (NOAA), Commerce.

ACTION: Notice of public meeting.

SUMMARY: NMFS announces a combined public meeting of the Scientific Advisory Subcommittee (SAS) to the General Advisory Committee (GAC), and the GAC to the U.S. Section to the Inter-American Tropical Tuna Commission (IATTC). This meeting will be held virtually on November 10, 2020, via webinar. The meeting topics are described under the SUPPLEMENTARY INFORMATION section of this notice.

DATES: The virtual meeting of the SAS and GAC will be held on November 10, 2020, from 8:30 a.m. to 1 p.m. PST (or until business is concluded).

ADDRESSES: Please notify William Stahnke (see FOR FURTHER INFORMATION CONTACT) if you plan to attend the webinar. Instructions will be emailed to meeting participants before the meeting occurs.

FOR FURTHER INFORMATION CONTACT: William Stahnke, West Coast Region, NMFS, at william.stahnke@noaa.gov, or at (562) 980-4088.

SUPPLEMENTARY INFORMATION: On June 18, 2020, NMFS hosted a combined virtual SAS and GAC meeting (85 FR 36562; June 17, 2020), in which NMFS indicated that it would host a second virtual SAS and GAC meeting on a date to be determined later in the year based on scheduling for relevant IATTC meetings. The IATTC Scientific Advisory Committee (SAC) meeting was held on October 26-28, 2020, and the IATTC annual meeting is expected to be held from November 30 to December 4, 2020. As such, NMFS is hosting a second virtual SAS and GAC meeting where priority items such as final stock assessments, tropical tuna management measures, Pacific bluefin tuna measures, observer issues, and other administrative topics will be discussed in light of information presented at the SAC meeting, in advance of the IATTC annual meeting.

In accordance with the Tuna Conventions Act (16 U.S.C. 951 et seq.), the U.S. Department of Commerce, in consultation with the Department of State (the State Department), appoints a GAC to the U.S. Section to the IATTC, and a SAS that advises the GAC. The U.S. Section consists of the four U.S. Commissioners to the IATTC and representatives of the State Department, NOAA, Department of Commerce, other U.S. Government agencies, and stakeholders. The GAC advises the U.S. Section with respect to U.S. participation in the work of the IATTC, focusing on the development of U.S. policies, positions, and negotiating tactics. The purpose of the SAS is to advise the GAC on scientific matters. NMFS West Coast Region staff provide administrative support for the SAS and GAC. The meetings of the SAS and GAC are open to the public, unless in executive session. The time and manner of public comment will be at the discretion of the Chairs for the SAS and GAC.

Currently, the 95th meeting of the IATTC and IATTC working group meetings are scheduled to be held, in a virtual format, from November 30 to December 4, 2020. For more information and updates on these meetings, please visit the IATTC's website: https://www.iattc.org/MeetingsENG.htm.

SAS and GAC Meeting Topics

As was the case at the prior combined SAS and GAC meeting (85 FR 36562; June 17, 2020), this SAS and GAC meeting will also have a streamlined agenda.

The meeting agenda will include, but is not limited to, the following topics:

(1) Outcomes of the final 2020 stock assessments and stock status updates for tuna, tuna-like species, and other species caught in association with those fisheries in the eastern Pacific Ocean;

(2) Evaluation of the IATTC Staff's Recommendations to the Commission for 2020;

(3) Discussion of tropical tuna management measure, Pacific Bluefin tuna measures, observer issues, and administrative topics;

(4) Recommendations and evaluations by the SAS and GAC; and

(5) Other issues as they arise.

Special Accommodations

Requests for sign language interpretation or other auxiliary aids should be directed to William Stahnke (see FOR FURTHER INFORMATION CONTACT).

(Authority: 16 U.S.C. 951 et seq.)

Dated: October 26, 2020.
Jennifer M. Wallace,
Acting Director, Office of Sustainable Fisheries, National Marine Fisheries Service.

[FR Doc. 2020-24030 Filed 10-29-20; 8:45 am]

BILLING CODE 3510-22-P